DEPARTMENT OF HOMELAND SECURITY

Federal Emergency Management Agency

44 CFR Part 67

[Docket No. FEMA-D-7802]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Polk County, North Carolina and Incorporated Areas
Bear Creek | At the confluence with North Pacolet River | None | +1,395 | Polk County (Unincorporated Areas).
| Approximately 870 feet upstream of Charleston Harbor Drive | None | +1,564
Big Fall Creek | At the confluence with North Pacolet River | None | +1,102 | Polk County (Unincorporated Areas).
| Approximately 1,270 feet upstream of railroad | None | +1,682
Brights Creek | At the confluence with Green River | None | +922 | Polk County (Unincorporated Areas).
| Approximately 700 feet upstream of the confluence of Rash Creek | None | +937
Britten Creek | At the confluence with Green River | None | +838 | Polk County (Unincorporated Areas).
| Approximately 170 feet upstream of Lake Adger Road (State Road 1138) | None | +1,108
Broad River | On the upstream side of Poors Ford Road (State Road 1004) | None | +732 | Polk County (Unincorporated Areas).
| Approximately 0.6 mile upstream of the confluence of Green River | None | +739
Collinsville Creek | At the confluence with Hughes Creek | None | +858 | Polk County (Unincorporated Areas).
| Approximately 1.1 miles upstream of Landrum Road (State Road 1520) | None | +996
Tributary 4 | At the confluence with Collinsville Creek | None | +961 | Polk County (Unincorporated Areas).
| Approximately 0.5 mile upstream of the confluence with Collinsville Creek | None | +982
Green River | At the confluence with Broad River | None | +736 | Polk County (Unincorporated Areas).
| At the Polk/Henderson County boundary | None | +1,442
Tributary 17 | At the confluence with Green River | None | +784 | Polk County (Unincorporated Areas).
| Approximately 0.5 mile upstream of the confluence with Green River | None | +798
Tributary 29 | At the confluence with Green River | None | +810 | Polk County (Unincorporated Areas).
| Approximately 0.6 mile upstream of the confluence with Green River | None | +868
Tributary 30 | At the confluence with Green River | None | +817 | Polk County (Unincorporated Areas).
| Approximately 0.8 mile upstream of the confluence with Green River | None | +839
Tributary 36 | At the confluence with Green River | None | +835 | Polk County (Unincorporated Areas).
| Approximately 0.4 mile upstream of the confluence with Green River | None | +854
Tributary 38 | At the confluence with Green River | None | +844 | Polk County (Unincorporated Areas).
| Approximately 1,220 feet upstream of Katydid Lane | None | +856
Green River Tributary of Tributary 30 | At the confluence with Green River Tributary | None | +817 | Polk County (Unincorporated Areas).
| Approximately 0.4 mile upstream of the confluence with Green River Tributary 30 | None | +844
Greens Creek | At the confluence with White Oak Creek | None | +745 | Polk County (Unincorporated Areas).
| Approximately 350 feet upstream of East Green Creek Drive (State Road 1340) | None | +772
Hensons Creek | At the Rutherford/Polk County boundary | None | +823 | Polk County (Unincorporated Areas).
| Approximately 60 feet upstream of the Polk/Rutherford County boundary | None | +824
Hooper Creek | Approximately 500 feet downstream of the most downstream North Carolina/South Carolina State boundary | None | +811 | Polk County (Unincorporated Areas).
| Approximately 320 feet upstream of Henderson Road (State Road 1525) | None | +1,034
Horse Creek | At the confluence with North Pacolet River | None | +879 | Polk County (Unincorporated Areas)
| Approximately 70 feet downstream of Three Bridges Drive | None | +2,594 | Town of Columbus.
Hughes Creek | At the North Carolina/South Carolina State boundary. | None | +803 | Polk County (Unincorporated Areas).
| Approximately 270 feet upstream of Landrum Road (State Road 1520) | None | +894
Joels Creek | At the confluence with North Pacolet River | None | +1,675 | Polk County (Unincorporated Areas).
| Approximately 0.7 mile upstream of Person Falls Road (State Road 1102) | None | +1,891 | City of Saluda.
Little Creek (into North Pacolet River) | At the confluence with North Pacolet River | None | +893 | Polk County (Unincorporated Areas).
| Approximately 300 feet upstream of North Trade Street | None | +1,005 | Town of Tryon.
Little Creek (into Vaughn Creek) | At the confluence with Vaughn Creek | None | +972 | Town of Tryon.
| Approximately 1,020 feet upstream of Jervey Road | None | +1,022
Little White Oak Creek | At the confluence with White Oak Creek | None | +838 | Polk County (Unincorporated Areas).
| Approximately 550 feet upstream of NC Highway 9 | None | +974
Machine Creek | At the confluence with White Oak Creek | None | +827 | Polk County (Unincorporated Areas).
| Approximately 500 feet upstream of U.S. Highway 74 | None | +848
Mill Creek (into White Oak Creek) | At the confluence with White Oak Creek | None | +755 | Polk County (Unincorporated Areas).
| Approximately 1,250 feet upstream of Coxe Road (State Road 1005) | None | +756
North Pacolet River | At the North Carolina/South Carolina State boundary. | None | +837 | Polk County (Unincorporated Areas).
| Approximately 0.5 mile upstream of the confluence of Joels Creek | None | +1,761 | Town of Tryon.
Tributary 18 | At the confluence with North Pacolet River | None | +917 | Polk County (Unincorporated Areas). Town of Tryon.
| Approximately 120 feet downstream of Howard Gap Road (State Road 1122) | None | +924
Tributary 20 | At the confluence with North Pacolet River | None | +935 | Polk County (Unincorporated Areas).
| Approximately 300 feet upstream of Baker Road (State Road 1124) | None | +948
Ostin Creek | At the confluence with Green River | None | +919 | Polk County (Unincorporated Areas).
| Approximately 200 feet upstream of Cow Crossing Lane | None | +1,022
Rash Creek | At the confluence with Brights Creek | None | +935 | Polk County (Unincorporated Areas).
| Approximately 750 feet upstream of the confluence with Brights Creek | None | +938
South Branch Little White Oak Creek | At the confluence with Little White Oak Creek | None | +876 | Polk County (Unincorporated Areas).
| Approximately 2.3 miles upstream of NC Highway 9 | None | +926
Vaughn Creek | At the confluence with North Pacolet River | None | +889 | Polk County (Unincorporated Areas).
| Approximately 630 feet upstream of the confluence of Little Creek (into Vaughn Creek) | None | +989 | Town of Tryon.
Tributary 1 | At the confluence with Vaughn Creek | None | +904 | Town of Tryon.
| Approximately 0.8 mile upstream of Vaughn Street | None | +973
Tributary 2 | At the confluence with Vaughn Creek | None | +972 | Town of Tryon.
| Approximately 850 feet upstream of Jervey Road | None | +997
Walnut Creek | At the confluence with Green River | None | +802
| Approximately 60 feet upstream of NC Highway 9 | None | +1,058
Wheat Creek | At the confluence with Green River | None | +768 | Polk County (Unincorporated Areas).
| Approximately 500 feet upstream of Ponder Road (State Road 1329) | None | +817
White Oak Creek | At the confluence with Green River | None | +743 | Polk County (Unincorporated Areas).
| Approximately 40 feet downstream of Smith Dairy Road (State Road 1528) | None | +902
Wolfe Creek | At the confluence with North Pacolet River | None | +842 | Polk County (Unincorporated Areas).
| Approximately 460 feet upstream of Interstate Highway 26 | None | +877
* National Geodetic Vertical Datum.
+ North American Vertical Datum.
# Depth in feet above ground.
ADDRESSES
City of Saluda
Maps are available for inspection at Saluda City Hall, 6 East Main Street, Saluda, North Carolina.
Send comments to The Honorable Lee H. Clippard, Sr., Mayor of the City of Saluda, P.O. Box 248, Saluda, North Carolina 28773.
Town of Columbus
Maps are available for inspection at Columbus Town Hall, 95 Walker Street, Columbus, North Carolina.
Send comments to The Honorable Kathleen McMillian, Mayor of the Town of Columbus, P.O. Box 146, Columbus, North Carolina 28722.
Town of Tryon
Maps are available for inspection at Tryon City Hall, 301 North Trade Street, Tryon, North Carolina.
Send comments to The Honorable J. Alan Peoples, Mayor of the Town of Tryon, 301 North Trade Street, Tryon, North Carolina 28782.
Polk County (Unincorporated Areas)
Maps are available for inspection at Polk County Planning Department, 40 Courthouse Street, Columbus, North Carolina.
Send comments to Mr. Ryan Whitson, Polk County Manager, P.O. Box 308, Columbus, North Carolina 28722.

(Catalog of Federal Domestic Assistance No. 97.022, “Flood Insurance.”)

Dated: June 4, 2007.
David I. Maurstad,
Federal Insurance Administrator of the National Flood Insurance Program, Federal Emergency Management Agency, Department of Homeland Security.

[FR Doc. E7-11640 Filed 6-15-07; 8:45 am]

BILLING CODE 9110-12-P